DEPARTMENT OF THE TREASURY

Fiscal Service

Surety Companies Acceptable on Federal Bonds—Change in State of Incorporation Arch Reinsurance Company

AGENCY: Bureau of the Fiscal Service, Fiscal Service Department of the Treasury.

ACTION: Notice.

SUMMARY: This is Supplement No. 5 to the Treasury Department Circular 570, 2014 Revision, published July 1, 2014, at 79 FR 37398.

FOR FURTHER INFORMATION CONTACT: Surety Bond Branch at (202) 874-6850.

SUPPLEMENTARY INFORMATION: Notice is hereby given that Arch Reinsurance Company (NAIC#10348) has redomesticated from the state of Nebraska to the state of Delaware effective September 15, 2014. Federal bond-approving officials should annotate their reference copies of the Treasury Department Circular 570 (“Circular”), 2014 Revision, to reflect this change.

The Circular may be viewed and downloaded through the Internet at http://www.fiscal.treasury.gov/fsreports/ref/suretyBnd/surety_home.htm.

Questions concerning this notice may be directed to the U.S. Department of the Treasury, Bureau of the Fiscal Service, Surety Bond Branch, 3700 East-West Highway, Room 6D22, Hyattsville, MD 20782.

Dated: March 11, 2015.
Kevin McIntyre,
Manager, Financial Accounting and Services Branch, Bureau of the Fiscal Service.

[FR Doc. 2015-08048 Filed 4-7-15; 8:45 am]

BILLING CODE 4810-35-P